DEPARTMENT OF VETERANS

Veterans' Advisory Committee on Education, Notice of Meeting

The Department of Veterans Affairs (VA) gives notice under the Federal Advisory Committee Act, 5 U.S.C. App. 2., that the Veterans' Advisory Committee on Education (the Committee) will meet via conference call December 9, 2020-December 10, 2020 from 1:00 p.m. to 4:00 p.m., EST. The meeting sessions are open to the public.

The purpose of the Committee is to advise the Secretary of Veterans Affairs on the administration of education and training programs for Veterans, Servicepersons, Reservists, and Dependents of Veterans including programs under Chapters 30, 32, 33, 35, and 36 of title 38, and Chapter 1606 of title 10, United States Code.

The purpose of the meeting is for the Committee to prioritize and modify existing recommendations not approved for action previously submitted to the Secretary, discuss proposition for establishment of subcommittees to determine new recommendations, provide information centered around the GI Bill user database, automation tools, distance education and online learning outcomes and measures, and COVID response outcomes.

Interested persons may attend. The meeting will be conducted using Microsoft Teams. Please email Janet.Elder@va.gov for an invitation link prior to December 9, 2020 or dial by phone 1-872-701-0185 United States, Chicago (Toll) Conference ID: 205 967 563#.

Although no time will be allotted for receiving oral presentations from the public, individuals wishing to share information with the Committee may submit written statements for the Committee's review to Ms. Debra Morgan, Designated Federal Official, Department of Veterans Affairs, by email at EDUSTAENG.VBAVACO@va.gov. Comments will be accepted until close of business on Monday, December 7, 2020. In the communication, the writers must identify themselves and state the organization or association they represent for inclusion in the official record. Any member of the public wishing to participate or seeking additional information should contact Janet Elder at EDUSTAENG.VBAVACO@va.gov or Janet.Elder@va.gov not later than December 8, 2020.

Dated: November 5, 2020.
Jelessa M. Burney,
Federal Advisory Committee Management Officer.

[FR Doc. 2020-24906 Filed 11-9-20; 8:45 am]

BILLING CODE 8320-01-P